DEPARTMENT OF COMMERCE

National Oceanic and Atmospheric Administration

RIN 0648-XW78

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee on June 21-22, 2010 to consider actions affecting New England fisheries in the exclusive economic zone (EEZ). Recommendations from this group will be brought to the full Council for formal consideration and action, if appropriate.

DATES: This meeting will be held on Monday, June 21 at 10 a.m. and Tuesday, June 22, 2010 at 8:30 a.m.

ADDRESSES: Meeting address: The meeting will be held at the Eastland Park Hotel, 157 High Street, Portland, ME 04101; telephone: (207) 775-5411; fax: (207) 775-2872.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Monday, June 21, 2010

The Scientific and Statistical Committee (SSC) will consider rules currently used to set Acceptable Biological Catch (ABC) for all/most NEFMC-managed stocks, discuss coordination with the Council relative to the development of the control rules and review the annually compiled list of five-year Council research recommendations.

Tuesday, June 22, 2010

The SSC will review the Ecosystem-Based Fishery Management draft policy paper; review and revise the Red Crab ABC to account for estimates of discards in the fishery and develop a recommendation for an Atlantic Salmon ABC.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: May 28, 2010.
Tracey L. Thompson,
Acting Director, Office of Sustainable Fisheries, National Marine Fisheries Service.

[FR Doc. 2010-13347 Filed 6-2-10; 8:45 am]

BILLING CODE 3510-22-S